NUCLEAR REGULATORY COMMISSION

[Docket No. 50-440]

FirstEnergy Nuclear Operating Company, Perry Nuclear Power Plant, Unit 1; Notice of Withdrawal of Application for Amendment to Facility Operating License

The U.S. Nuclear Regulatory Commission (the Commission) has granted the request of the FirstEnergy Nuclear Operating Company (the licensee) to withdraw its June 5, 2000, application for proposed amendment to Facility Operating License No. NPF-58 for the Perry Nuclear Power Plant, Unit 1, located in Lake County, Ohio.

The proposed amendment would have changed the Perry Nuclear Power Plant, Unit 1, as described in the Updated Safety Analysis Report. The proposed modification would have installed a time delay to the main turbine and feedwater pump turbine trip signal associated with a reactor core isolation cooling (RCIC) system automatic initiation.

The Commission had previously issued a Notice of Consideration of Issuance of Amendment published in the Federal Register on August 9, 2000 (65 FR 48747). However, by letter dated December 14, 2000, the licensee withdrew the proposed change.

For further details with respect to this action, see the application for amendment dated June 5, 2000, and the licensee's letter dated December 14, 2000, which withdrew the application for license amendment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 29th day of December, 2000.
For the Nuclear Regulatory Commission.
Douglas V. Pickett,
Senior Project Manager, Section 2, Project Directorate III, Division of Licensing Project Management, Office of Nuclear Reactor Regulation.

[FR Doc. 01-359 Filed 1-4-01; 8:45 am]

BILLING CODE 7590-01-P